DEPARTMENT OF COMMERCE

Foreign-Trade Zones Board

[B-54-2017]

Foreign-Trade Zone (FTZ) 277—Western Maricopa County, Arizona; Authorization of Production Activity; CornellCookson, Inc.; (Rolling Steel Doors); Goodyear, Arizona

On July 19, 2017, Greater Maricopa Foreign Trade Zone, Inc., grantee of FTZ 277, submitted a notification of proposed production activity to the FTZ Board on behalf of CornellCookson, Inc., within Site 11, in Goodyear, Arizona.

The notification was processed in accordance with the regulations of the FTZ Board (15 CFR part 400), including notice in the Federal Register inviting public comment (82 FR 39759, August 22, 2017). On November 16, 2017, the applicant was notified of the FTZ Board's decision that no further review of the activity is warranted at this time. The production activity described in the notification was authorized, subject to the FTZ Act and the FTZ Board's regulations, including Section 400.14.

Dated: November 17, 2017.
Andrew McGilvray,
Executive Secretary.

[FR Doc. 2017-25278 Filed 11-21-17; 8:45 am]

BILLING CODE 3510-DS-P